FEDERAL COMMUNICATIONS COMMISSION

47 CFR Part 101

[ET Docket No. 98-206, RM-9147, RM-9245, DA 01-754]

Multichannel Video and Data Distribution Service (MVDDS)

AGENCY: Federal Communications Commission.

ACTION: Proposed rule; extension of time period.

SUMMARY: On March 23, 2001, the Public Safety and Private Wireless Division of the Wireless Telecommunications Bureau released an order extending the Further Notice of Proposed Rulemaking reply comment period in ET Docket No. 98-206 from March 26, 2001 to April 5, 2001. The extension was requested to allow parties filing reply comments in this proceeding more time to evaluate and respond to the voluminous comments filed by other parties.

DATES: Reply comments are due on or before April 5, 2001.

ADDRESSES: Federal Communications Commission, 445 12th Street, SW., Washington, DC 20054.

FOR FURTHER INFORMATION CONTACT: Jennifer Burton, Wireless Telecommunications Bureau, Public Safety and Private Wireless Division, at (202) 418-0680.

SUPPLEMENTARY INFORMATION: 1. This is a summary of the Commission's Order Extending Reply Comment Period (Order), adopted, March 23, 2001, and released, March 23, 2001. The full text of the Order is available for inspection and copying during normal business hours in the FCC Reference Center, Room CY-A257, 445 12th Street, SW., Washington, DC. The complete text may be purchased from the Commission's copy contractor, International Transcription Service, Inc., 1231 20th Street, NW., Washington, DC 20037.

2. On March 21, 2001, DIRECTV, Inc. and EchoStar Satellite Corporation jointly filed a motion, pursuant to § 1.46 of the Commission's Rules, to extend the period for filing reply comments to the Further Notice of Proposed Rule Making, 66 FR 7607, in the above-captioned proceeding from March 26, 2001 to April 26, 2001. In response, Northpoint Technology, Ltd. and Broadwave USA, Inc. filed an Opposition to Motion for Extension of Time on March 23, 2001. For the reasons discussed below, we extend the reply comment period from March 26, 2001 to Thursday, April 5, 2001.

3. The Motion requests an extension of time to address the “voluminous comments” filed by a number of parties. It argues that no prejudice will result from the grant of the extension because there are other matters that need to be performed by third parties before the Commission can resolve the outstanding issues in this proceeding. The Opposition, on the other hand, contends that it is in the public interest to resolve this matter on a more expedited basis and that a thirty-day extension is simply not appropriate under such circumstances.

4. The Commission's general policy is that extensions of time are not routinely granted. Moreover, the Commission specifically disfavors requests for extensions of time filed on such short notice. Nevertheless, we still consider and, in certain instances, grant limited requests for extensions of time where we find that the public interest would be best served by a more complete discussion of the matters pending before the Commission. We believe that it is in the public interest to decide this matter with the most complete and well-developed record possible. After weighing the parties' arguments, we find that a moderate extension of time is appropriate under the circumstances presented. We believe that a moderate extension of time appropriately balances the interests of commenting parties without unreasonably delaying the resolution of the proceeding. Therefore, we will grant a ten-day extension of time for the filing of reply comments. As a result, reply comments must be filed on or before April 5, 2001.

5. It is hereby ordered that pursuant to Section 1.46 of the Commission's Rules, 47 CFR 1.46, the request of DIRECTV, Inc. and EchoStar Satellite Corporation to extend the deadline for filing reply comments in this proceeding, filed March 21, 2001, is granted in part and denied in part to the extent indicated.

6. This action is taken under delegated authority pursuant to §§ 0.131 and 0.331 of the Commission's Rules, 47 CFR 0.131, 0.331.

List of Subjects in 47 CFR Part 101

Communications equipment, Radio.

Federal Communications Commission.
Kathleen O'Brien Ham,
Deputy Chief, Wireless Telecommunications Bureau.

[FR Doc. 01-8393 Filed 4-4-01; 8:45 am]

BILLING CODE 6712-01-U